NATIONAL AERONAUTICS AND SPACE ADMINISTRATION

[Notice (01-013)]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: January 22, 2001.

FOR FURTHER INFORMATION CONTACT: James McGroary, Patent Counsel, Marshall Space Flight Center, Code LS01, Huntsville, AL 35812; Tel. (256) 544-0013; Fax (256) 544-0258.

NASA Case No. MFS-26378-1: Plasma Spray Capacitance and Capaciflector Sensor Probes;

NASA Case No. MFS-31138-2-DIV: Method of Making a Rocket Engine Thrust Chamber Assembly;

NASA Case No. MFS-31148-2-DIV: Fabrication Process for Combustion Chamber/Nozzle Assembly;

NASA Case No. MFS-31175-2-CIP: Gasket Assembly for Sealing Mating Surfaces;

NASA Case No. MFS-31229-1: Method and Apparatus for Applying Readable Identification Symbols to Substrates;

NASA Case No. MFS-31289-2: Method and System for Reducing Plasma Loss in a Magnetic Mirror Fusion Reactor;

NASA Case No. MFS-31294-2-CIP: Aluminum Alloy and Articles Cast Therefrom;

NASA Case No. MFS-31294-5-CIP: Aluminum-Silicon Alloy Having Improved Properties at Elevated Temperatures and Articles Cast Therefrom;

NASA Case No. MFS-31294-6-CIP: Aluminum-Silicon Alloy Having Improved Properties at Elevated Temperatures and Process for Producing Cast Articles Therefrom;

NASA Case No. MFS-31379-2-DIV: Method of Making a Composite Tank;

NASA Case No. MFS-31432-1: Panoramic Detection System for Generating a 360-Degree Image;

NASA Case No. MFS-31455-1: Process for a High Efficiency Class D Microwave Power Amplifier Operating in the S-Band;

NASA Case No. MFS-31475-1: Panoramic Refracting Optic (PRO);

NASA Case No. MFS-31524-1: SADL: Simulation Architecture Description Language.

Dated: January 11, 2001.
Edward A. Frankle,
General Counsel.

[FR Doc. 01-1773 Filed 1-19-01; 8:45 am]

BILLING CODE 7510-01-U